DEPARTMENT OF THE TREASURY

Submission for OMB Review; Comment Request

February 8, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 19, 2001 to be assured of consideration.

Bureau of the Public Debt (PD)

OMB Number: 1535-0092.

Form Number: PD Fs 4144, 4144-1, 4144-2, 4144-5, 4144-6, 4144-7, and 4144-8.

Type of Review: Extension.

Title: Subscription for Purchase and Issue of U.S. Treasury Securities—State and Local Government Series.

Description: The information is necessary to establish the accounts for owners of securities of State and Local Government Series.

Respondents: State, Local, or Tribal Government.

Estimated Number of Respondents: 5,000.

Estimated Burden Hours Per Respondent: 30 minutes.

Frequency of Response: On occasion.

Estimated Total Reporting Burden Hours: 2,500 hours.

OMB Number: 1535-0111.

Form Numbers: SB 2104, 2152, 2153, 2205, 2253, 2272, and 2305.

Type of Review: Extension.

Title: Authorization for Purchase and Request for Change United States Savings Bonds.

Description: These forms are used to authorize employers to allot funds from employee's pay for the purchase of Savings Bonds.

Respondents: Individuals or households.

Estimated Number of Respondents: 1,600,000.

Estimated Burden Hours Per Respondent: 1 minute.

Frequency of Response: On occasion.

Estimated Total Reporting Burden Hours: 33,333 hours.

OMB Number: 1535-0127.

Form Number: None.

Type of Review: Extension.

Title: Offering of United States Mortgage Guaranty Insurance Company Tax and Loss Bonds.

Description: Regulations governing the issue, reissue, and redemption of United States Mortgage Guaranty Insurance Company Tax and Loss Bonds.

Respondents: Business or other for-profit.

Estimated Number of Respondents: 37.

Estimated Burden Hours Per Respondent: 15 minutes.

Frequency of Response: On occasion.

Estimated Total Reporting Burden Hours: 20 hours.

Clearance Officer: Vicki S. Thorpe, (304) 480-6553, Bureau of the Public Debt, 200 Third Street, Parkersburg, WV 26106-1328.

OMB Reviewer: Alexander T. Hunt, (202) 395-7860, Office of Management and Budget, Room 10226, New Executive Office Building, Washington, DC 20503.

Mary A. Able,
Departmental Reports Management Officer.

[FR Doc. 01-3840 Filed 2-14-01; 8:45 am]

BILLING CODE 4810-40-P